ENVIRONMENTAL PROTECTION AGENCY

[OPP-100167; FRL-6770-3]

Syracuse Environmental Research Associates, Inc.; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be tranferred to Syracuse Environmental Research Associates, Inc. in accordance with 40 CFR 2.307(h)(3) and 2.308(i)(2). Syracuse Environmental Research Associates, Inc. has been awarded a contract to perform work for OPP, and access to this information will enable Syracuse Environmental Research Associates, Inc. to fulfill the obligations of the contract.

DATES: Syracuse Environmental Research Associates, Inc. will be given access to this information on or before March 12, 2001.

FOR FURTHER INFORMATION CONTACT: By mail: Erik R. Johnson, FIFRA Security Officer, Information Resources and Services Division (7502C), Office of Pesticide Programs, Environmental Protection Agency, 1200 Pennsylvania Ave., NW., Washington, DC 20460; telephone number: 703-305-7248; e-mail address: johnson.erik@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Additional Information, Including Copies of this Document and Other Related Documents?

You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

II. Contractor Requirements

Under contract number GS-10F-0082F000, the contractor will perform the following:

The Forest Service (FS) has entered into Interagency Agreements with other Federal agencies to develop human health and safety risk assessments, and other related activities that are mutually beneficial to both agencies. Examples include the development of methodologies for determining human health and safety risks associated with tank mixture of pesticides with EPA.

The Contractor shall prepare documents using the most current information available, including current FS program information and pesticide or semiochemical data. This will require that the Contractor search all pertinent data bases, current literature, published and unpublished data, results of current research, and also contact Federal, state, local, and private individuals involved in current and recent research, monitoring and regulatory activities associated with pest control or vegetation management efforts or the tools used in those efforts.

The Contractor shall also contact individuals who are specifically knowledgeable regarding the current regulatory status of the pesticidal agents' most recent toxicological information. This includes the Product Managers of each agent and toxicologists at the EPA, and the manufacturer's technical representatives or Product Managers.

The contract involves no subcontractors.

OPP has determine that the contract described in this document involves work that is being conducted in connection with FIFRA, in that pesticide chemicals will be the subject of certain evaluations to be made under this contract. These evaluations may be used in subsequent regulatory decisions under FIFRA.

Some of this information may be entitled to confidential treatment. The information has been submitted to EPA under sections 3, 4, 6, and 7 of FIFRA and under sections 408 and 409 of FFDCA.

In accordance with the requirements of 40 CFR 2.307(h)(3), the contract with Syracuse Environmental Research Associates, Inc. prohibits use of the information for any purpose not specified in the contract; prohibits disclosure of the information to a third party without prior written approval from the Agency; and requires that each official and employee of the contractor sign an agreement to protect the information from unauthorized release and to handle it in accordance with the FIFRA Information Security Manual. In addition, Syracuse Environmental Research Associates, Inc. is required to submit for EPA approval a security plan under which any CBI will be secured and protected against unauthorized release or compromise. No information will be provided to Syracuse Environmental Research Associates, Inc. until the requirements in this document have been fully satisfied. Records of information provided to Syracuse Environmental Research Associates, Inc. will be maintained by EPA Project Officers for the contract. All information supplied to Syracuse Environmental Research Associates, Inc. by EPA for use in connection with the contract will be returned to EPA when Syracuse Environmental Research Associates, Inc. has completed its work.

List of Subjects

Environmental protection, Business and industry, Government contracts, Government property, Security measures.

Dated: February 14, 2001.
Richard D. Schmitt,
Acting Director, Information Resources and Services Division, Office of Pesticide Programs.

[FR Doc. 01-5577 Filed 3-6-01; 8:45 am]

BILLING CODE 6560-50-S